DEPARTMENT OF COMMERCE

International Trade Administration

(A-401-808)

Notice of Final Determination of Sales at Less Than Fair Value: Purified Carboxymethylcellulose From Sweden

AGENCY: Import Administration, International Trade Administration, Department of Commerce.

SUMMARY: On December 27, 2004, the Department of Commerce published the preliminary determination in the antidumping duty investigation of purified carboxymethylcellulose (CMC) from Sweden. See Notice of Preliminary Determination of Sales at Less Than Fair Value and Postponement of Final Determination: Purified Carboxymethylcellulose From Sweden, 69 FR 77213 (“Preliminary Determination”). The period of investigation (POI) is April 1, 2003, through March 31, 2004. The mandatory respondent, Noviant AB, did not respond to Sections B and C of the Department's questionnaire. Accordingly, we based the preliminary determination on adverse facts available, and applied the highest estimated dumping margin set forth in the notice of initiation. We gave interested parties an opportunity to comment on the preliminary determination, but no comments were received and no hearing was requested. Therefore, we have made no changes from the preliminary determination that CMC was sold in the United States at less than fair value (LTFV) during the period of investigation. The final weighted-average dumping margins are listed below in the section entitled “Continuation of Suspension of Liquidation.”

EFFECTIVE DATE: May 17, 2005.

FOR FURTHER INFORMATION CONTACT: Helen M. Kramer at 202-482-0405 or Abdelali Elouaradia at 202-482-1374, AD/CVD Operations, Office 7, Import Administration, International Trade Administration, U.S. Department of Commerce, 1401 Constitution Avenue, NW, Washington, DC 20230.

SUPPLEMENTARY INFORMATION:

Period of Investigation

The POI corresponds to the four most recent fiscal quarters prior to the filing of the petition, April 1, 2003, through March 31, 2004. See 19 CFR 351.204(b)(1).

Scope of Investigation

For purposes of this investigation, the products covered are all purified carboxymethylcellulose (CMC), sometimes also referred to as purified sodium CMC, polyanionic cellulose, or cellulose gum, which is a white to off-white, non-toxic, odorless, biodegradable powder, comprising sodium carboxymethylcellulose that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent.

The merchandise subject to this investigation is classified in the Harmonized Tariff Schedule of the United States (HTSUS) at subheading 3912.31.00. This tariff classification is provided for convenience and customs purposes; however, the written description of the scope of this investigation is dispositive.

Final Determination

The Department of Commerce (the Department) has determined that purified carboxymethylcellulose (CMC) from Sweden is being sold, or is likely to be sold, in the United States at less than fair value (LTFV), as provided in section 735 of the Tariff Act of 1930, as amended (“the Act”). The final weighted-average dumping margins are listed below in the section entitled “Continuation of Suspension of Liquidation.”

Use of Facts Otherwise Available

As explained in the Preliminary Determination, because Noviant AB failed to respond to our request for information that is necessary to calculate the dumping margin, we have found that the company failed to cooperate to the best of its ability. Therefore, pursuant to section 776(b) of the Act, we have used an adverse inference in selecting from the facts available for the margin for this company.

As adverse facts available, we have applied the highest estimated dumping margin set forth in the notice of initiation, which is the margin alleged in the petition, adjusted by the Department for currency conversion. Section 776(c) of the Act provides that the Department shall, to the extent practicable, corroborate secondary information used for facts available by reviewing independent sources reasonably at its disposal. Information from the petitioner constitutes secondary information. The Statement of Administrative Action accompanying the Uruguay Round Agreements Act, H.R. Doc. 103-316, Vol. 1, at 870 (1994), provides that the word “corroborate” means that the Department will satisfy itself that the secondary information to be used has probative value. We examined the key elements of the export price and normal value calculations on which the margin in the petition was based. We found that the estimated margin has probative value, adjusted by the Department for currency conversion. See Memorandum to the File from Helen M. Kramer, International Trade Compliance Analyst, Re: Preliminary Determination in the Antidumping Investigation of Purified Carboxymethylcellulose (CMC) from Sweden: Total Facts Available Corroboration Memorandum, dated December 16, 2004. Furthermore, there is no information on the record that demonstrates that the rate we have selected is an inappropriate total adverse facts available rate for the company in question. Accordingly, we find that the highest margin based on that information, 25.29 percent, is corroborated within the meaning of section 776(c) of the Act. Therefore, we consider the selected rate to have probative value with respect to Noviant AB and to reflect the appropriate adverse inference.

Continuation of Suspension of Liquidation

In accordance with section 735(c)(1)(B)(ii) of the Act, we are directing U.S. Customs and Border Protection (“CBP”) to continue to suspend liquidation of all entries of purified CMC from Sweden that are entered, or withdrawn from warehouse, for consumption on or after December 27, 2004, the date of publication of the Preliminary Determination in the Federal Register. CBP shall continue to require a cash deposit or the posting of a bond equal to the weighted-average amount by which the normal value exceeds the export price, as indicated in the chart below. These suspension-of-liquidation instructions will remain in effect until further notice.

The weighted-average dumping margins are as follows:

Manufacturer/exporter | Weighted-Average Margin (percent)
Noviant AB | 25.29
All Others | 25.29

International Trade Commission Notification

In accordance with section 735(d) of the Act, we have notified the International Trade Commission (“ITC”) of our determination. As our final determination is affirmative, the ITC will, within 45 days, determine whether these imports are materially injuring, or threatening material injury to, the U.S. industry. If the ITC determines that material injury, or threat of material injury, does not exist, the proceeding will be terminated and all securities posted will be refunded or canceled. If the ITC determines that such injury does exist, the Department will issue an antidumping duty order.

This notice also serves as a reminder to parties subject to administrative protective order (“APO”) of their responsibility concerning the disposition of proprietary information disclosed under APO in accordance with 19 CFR 351.305. Timely notification of return or destruction of APO materials, or conversion to judicial protective order, is hereby requested. Failure to comply with the regulations and the terms of an APO is a sanctionable violation.

This determination is issued and published pursuant to sections)735(d) and 777(i)(1) of the Act.

Dated: May 10, 2005.
Joseph A. Spetrini,
Acting Assistant Secretary for Import Administration.

[FR Doc. E5-2467 Filed 5-16-05; 8:45 am]

BILLING CODE 3510-DS-S